DEPARTMENT OF ENERGY

[Number DE-PS07-02ID14442]

Sensors, Controls, and Automation Crosscutting Technologies

AGENCY: Idaho Operations Office, DOE.

ACTION: Notice of Availability of Solicitation for Awards of Financial Assistance.

SUMMARY: The U.S. Department of Energy (DOE) Idaho Operations Office (ID) is seeking applications for cost-shared research, development and demonstration of innovative sensor, control, automation and wireless technologies that will reduce energy consumption, minimize environmental impacts, and enhance economic competitiveness in U.S. industrial manufacturing. This solicitation addresses two separate topics:

1. Crosscutting sensors and controls, and

2. Industrial wireless telemetry

DATES: The issuance date of Solicitation Number DE-PS07-02ID14442 was January 15, 2003. The deadline for receipt of applications is March 31, 2003, at 3:00 p.m. MDT.

ADDRESSES: The solicitation will be available in its full text on the Internet by going to the DOE's Industry Interactive Procurement System (IIPS) at the following URL address: http://e-center.doe.gov. This will provide the medium for disseminating solicitations and amendments to solicitations, receiving financial assistance applications and evaluating applications in a paperless environment. Completed applications are required to be submitted via IIPS. An IIPS “User Guide for Contractors” can be obtained on the IIPS Homepage and then click on the “Help” button. Questions regarding the operation of IIPS may be e-mailed to the IIPS Help Desk at IIPS_HelpDesk@e-center.doe.gov.

FOR FURTHER INFORMATION CONTACT: Wade Hillebrant, Contract Specialist at hillebtw@id.doe.gov, or Dallas L. Hoffer, Contracting Officer at hofferdl@id.doe.gov.

SUPPLEMENTARY INFORMATION: Information about the Office of Industrial Technologies Sensors and Automation program, refer to URL: http://www.oit.doe.gov/sens_cont/. The IOF industry-specific vision documents and technology roadmaps are available at http://www.oit.doe.gov/ under individual IOF program areas.

DOE anticipates making up to 4 cooperative agreement awards under this solicitation. Approximately $12 million in federal funds are expected to be available to fund selected research projects over a five-year period. A minimum 50% non-federal cost share is required for research and development projects over the life of the project. The cooperative agreements will be awarded in accordance with DOE Financial Assistance Regulations, Title 10 of the Code of Federal Regulations, Chapter II Subchapter H, Part 600 (10 CFR 600). The statutory authority for the program is the Federal Non-Nuclear Energy Research and Development Act of 1974 (Pub. L. 93-577). The Catalog of Federal Domestic Assistance (CFDA) Number for this program is 81.086.

Issued in Idaho Falls on January 15, 2003.
R.J. Hoyles,
Director, Procurement Services Division.

[FR Doc. 03-1334 Filed 1-21-03; 8:45 am]

BILLING CODE 6450-01-P